INTERNATIONAL TRADE COMMISSION

[Inv. No. 337-TA-494]

In the Matter of Certain Automotive Measuring Devices, Products Containing Same, and Bezels for Such Devices; Notice of Commission Decision not to Review an Initial Determination Granting Complainant's Motion To Amend the Complaint and Notice of Investigation To Add a Respondent to the Investigation

AGENCY: U.S. International Trade Commission.

ACTION: Notice.

SUMMARY: Notice is hereby given that the U.S. International Trade Commission has determined not to review the initial determination (“ID”) issued by the presiding administrative law judge (“ALJ”) on November 26, 2003, granting complainant Auto Meter Products, Inc.'s motion to amend the complaint and notice of investigation to add Blitz Co., Ltd., as a respondent in the above-captioned investigation.

FOR FURTHER INFORMATION CONTACT: Michael Liberman, Esq., Office of the General Counsel, U.S. International Trade Commission, 500 E Street, SW., Washington, DC 20436, telephone (202) 205-3115. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS) at http://edis.usitc.gov.

SUPPLEMENTARY INFORMATION: The Commission issued a notice of investigation dated June 16, 2003, naming Auto Meter Products, Inc. (“Auto Meter”) of Sycamore, Illinois, as the complainant and several companies, including Blitz North America Inc. (“Blitz NA”), as respondents. On June 20, 2003, the notice of investigation was published in the Federal Register. 68 FR 37023 (June 20, 2003). Auto Meter's complaint alleges violations of section 337 of the Tariff Act of 1930 in the importation and sale of certain automotive measuring devices, products containing same, and bezels for such devices, by reason of infringement of U.S. Registered Trademark Nos. 1,732,643 and 1,497,472, and U.S. Supplemental Register No. 1,903,908, and infringement of the complainant's trade dress.

On October 2, 2003, Auto Meter moved to amend the complaint and notice of investigation to add Blitz Co., Ltd. as a respondent in the investigation. On October 23, 2003, respondent Blitz NA filed an opposition to Auto Meter's motion concurrently with a motion for an extension of time to file such opposition. On October 24, 2003, Auto Meter filed an opposition to Blitz NA's motion for an extension of time. On October 23, 2003, the Commission investigative attorneys filed a response in support of Auto Meter's motion to amend. No other party responded to Auto Meter's motion to amend.

On November 26, 2003, the ALJ issued an ID (Order No. 11) granting Auto Meter's motion to amend the complaint and notice to add Blitz Co., Ltd. as a respondent in the investigation. No party petitioned for review of that ID.

The authority for the Commission's determination is contained in section 337 of the Tariff Act of 1930, as amended (19 U.S.C. 1337), and in § 210.42 of the Commission's Rules of Practice and Procedure (19 CFR 210.42).

Issued: December 22, 2003.
By order of the Commission.
Marilyn R. Abbott,
Secretary.

[FR Doc. 03-32004 Filed 12-29-03; 8:45 am]

BILLING CODE 7020-02-P